DEPARTMENT OF THE TREASURY

Submission for OMB Review; Comment Request

September 26, 2003.

The Department of Treasury has submitted the following public information collection requirement(s) to OMB for review and clearance under the Paperwork Reduction Act of 1995, Pub. L. 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before November 3, 2003 to be assured of consideration.

Departmental Offices/Community Development Financial Institutions (CDFI) Fund

OMB Number: 1559-0006.

Form Number: CDFI-0005.

Type of Review: Extension.

Title: The Community Development Financial Institutions (CDFI) Program—Certification/Re-Certification Application.

Description: The certification/re-certification application will be used to determine whether an entity seeking CDFI certification meets the Fund's requirements for such certification as set forth in 12 CFR 1805.201.

Respondents: Not-for-profit institutions, Business or other for-profit.

Estimated Number of Respondents: 315.

Estimated Burden Hours Per Respondent: 40 hours.

Frequency of Response: On occasion.

Estimated Total Reporting Burden: 12,600 hours.

OMB Number: 1559-0013.

Form Number: CDFI-0018.

Type of Review: Reinstatement.

Title: Native American CDFI Development Program.

Description: Provides grants to be used to acquire technical assistance to increase the capacity of community development financial institutions or proposed CDFIs to serve underserved Native American, Alaska Native and Native Hawaiian target markets.

Respondents: Not-for-profit institutions, Business or other for-profit.

Estimated Number of Respondents: 40.

Estimated Burden Hours Per Respondent: 65 hours.

Frequency of Response: Annually.

Estimated Total Reporting Burden: 2,600 hours.

OMB Number: 1559-0021.

Form Number: CDFI-0001.

Type of Review: Extension.

Title: Financial Assistance (FA) Component Application—CDFI Program.

Description: The CDFI Fund provides financial assistance in the form of grants, loans, equity investments and deposits to community development financial institutions providing capital and financial services to underserved markets.

Respondents: Not-for-profit institutions, Business or other for-profit.

Estimated Number of Respondents: 200.

Estimated Burden Hours Per Respondent: 100 hours.

Frequency of Response: Other (application submitted only).

Estimated Total Reporting Burden: 20,000 hours.

Clearance Officer: Lois K. Holland (202) 622-1563, Departmental Offices, Room 2110, 1425 New York Avenue, NW., Washington, DC 20220.

OMB Reviewer: Joseph F. Lackey, Jr., (202) 395-7316, Office of Management and Budget, Room 10235, New Executive Office Building, Washington, DC 20503.

Lois K. Holland,
Treasury PRA Clearance Officer.

[FR Doc. 03-25152 Filed 10-2-03; 8:45 am]

BILLING CODE 4811-16-P